NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on May 5-8, 2004, 11545 Rockville Pike, Rockville, Maryland. The date of this meeting was previously published in the Federal Register on Monday, November 21, 2003 (68 FR 65743).

Wednesday, May 5, 2004 (Closed)

11 a.m.-6:30 p.m.: Safeguards and Security (Closed)—The Committee will hear presentations by and hold discussions with representatives of the Office of Nuclear Regulatory Research and the Office of Nuclear Security and Incident Response regarding safeguards and security matters.

Thursday, May 6, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: Use of Mixed Oxide (MOX) Lead Test Assemblies at the Catawba Nuclear Station (Open)—The Committee will hear presentations by and hold discussions with representatives of the NRC staff and Duke Cogema Stone and Webster (DCS) regarding the license amendment submitted by DCS to obtain NRC authorization to use MOX lead test assemblies at the Catawba Nuclear Station.

10:45 a.m.-12:15 p.m.: Risk Management Technical Specifications (Open)—The Committee will hear presentations by and hold discussions with representatives of the NRC staff regarding the status/overview of the initiatives associated with the risk management technical specifications, and the staff's evaluation of the proposals for pilot application of the initiative on Risk-Informed Completion Times.

1:15 p.m.-3:15 p.m.: Trial/Pilot Implementation of Regulatory Guide 1.200, “An Approach for Determining the Technical Adequacy of Probabilistic Risk Assessment Results for Risk-Informed Activities” (Open)—The Committee will hear presentations by and hold discussions with representatives of the NRC staff regarding insights gained from the trial/pilot implementation of Regulatory Guide 1.200.

3:30 p.m.-4:45 p.m.: Good Practices for Implementing Human Reliability Analysis (Open)—The Committee will hear presentations by and hold discussions with representatives of the NRC staff and their contractors regarding the draft report on Good Practices for Implementing Human Reliability Analysis, as well as the ongoing efforts associated with the application of the methodology, “A Technique for Human Event Analysis (ATHEANA).”

5 p.m.-6:30 p.m.: Preparation of ACRS Reports (Open)—The Committee will discuss proposed ACRS reports on matters considered during this meeting, as well as proposed ACRS reports on Divergence in Regulatory Requirements Between U.S. and Several Other Countries, and Resolution of Certain Items Identified by the ACRS in NUREG-1740 Related to Differing Professional Opinion on Steam Generator Tube Integrity.

Friday, May 7, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: Potential Adverse Effects from Power Uprates (Open)—The Committee will hear presentations by and hold discussions with representatives of the NRC staff regarding adverse effects experienced as a result of core power uprates and status of ongoing and proposed activities of the industry and the NRC staff to address this issue.

10:45 a.m.-11 a.m.: subcommittee Report on Fire Protection Issues (Open)—The Committee will hear a report by and hold discussions with the Chairman of the ACRS Subcommittee on Fire Protection regarding matters discussed during the April 23, 2004 Subcommittee meeting.

11 a.m.-12 Noon: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

12 Noon-12:15 p.m.: Reconciliation of ACRS Comments and Recommendations (Open)—The Committee will discuss the responses from the NRC Executive Director for Operations (EDO) to comments and recommendations included in recent ACRS reports and letters. The EDO responses are expected to be made available to the Committee prior to the meeting.

1:15 p.m.-2:15 p.m.: Preparation for meeting with the Commissioners (Open)—The Committee will discuss topics scheduled for meeting with the NRC Commissioners in June 2004.

2:30 p.m.-6:30 p.m.: Preparation of ACRS Reports (Open)—The Committee will discuss proposed ACRS reports.

Saturday, May 8, 2004, Conference Room T-2B3, Two White Flint North, Rockville, Maryland

8:30 a.m.-12 Noon: Preparation of ACRS Reports (Open)—The Committee will continue discussion of the proposed ACRS reports.

12 Noon-12:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) P.L. 92-463, I have determined that it is necessary to close a portion of this meeting noted above to discuss and protect information classified as national security information as well as unclassified safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., e.t.

ACRS meeting agenda, meeting transcripts, and letter reports are available through the NRC Public Document Room at pdr@nrc.gov, or by calling the PDR at 1-800-397-4209, or from the Publicly Available Records System (PARS) component of NRC's document system(ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

Dated: April 23, 2004.
Andrew L. Bates,
Advisory Committee Management Officer.

[FR Doc. 04-9690 Filed 4-28-04; 8:45 am]

BILLING CODE 7590-01-P